DEPARTMENT OF THE INTERIOR

Office of Surface Mining Reclamation and Enforcement

Black Mesa Project Final Environmental Impact Statement, OSM-EIS-033

AGENCY: Office of Surface Mining Reclamation and Enforcement, Interior.

ACTION: Notice of availability of the final environmental impact statement for the Black Mesa Project.

SUMMARY: The Office of Surface Mining Reclamation and Enforcement (we or OSM), as lead Federal agency, announces the availability of the final environmental impact statement (EIS) for the proposed Black Mesa Project. The proposed project consists of Peabody Western Coal Company's (Peabody's) operation and reclamation plans for coal mining at the Black Mesa Complex near Kayenta, Arizona.

DATES: The waiting period for OSM's and the Bureau of Land Management's (BLM's) records of decision on the proposed project ends on December 8, 2008.

FOR FURTHER INFORMATION CONTACT: OSM, Western Region, P.O. Box 46667, Denver, CO 80201, Dennis Winterringer, Black Mesa Project EIS Leader, telephone (303) 293-5048 or by e-mail at BMKEIS@osmre.gov.

SUPPLEMENTARY INFORMATION: In 2006, under the National Environmental Policy Act of 1969 (NEPA), we prepared and made available for public review a draft EIS analyzing the effects of the Black Mesa Project. The Environmental Protection Agency (EPA) published the notice of availability on December 1, 2006 (71 FR 69562). The proposed project consisted of (1) Peabody's operation and reclamation plans for coal mining at the Black Mesa Complex near Kayenta, Arizona; (2) Black Mesa Pipeline Incorporated's (BMPI's) coal slurry preparation plant at the Black Mesa Complex; (3) BMPI's reconstruction of the 273-mile-long coal slurry pipeline across northern Arizona from the coal slurry preparation plant to the Mohave Generating Station in Laughlin, Nevada; and (4) the Mohave Generation Station co-owners' construction and operation of a water supply system consisting of water wells in the Coconino aquifer (C aquifer) near Leupp, Arizona, and of a water supply pipeline running 108 miles across the Navajo and Hopi Reservations from the wells to the coal slurry preparation plant. Peabody proposed to continue supplying coal to the Navajo Generating Station and the Mohave Generating Station. The coal slurry preparation plant, coal-slurry pipeline, and Coconino aquifer water-supply system were associated with supplying coal to the Mohave Generating Station.

Since the draft EIS was issued, the scope of the proposed project has been reduced to Peabody's operation and reclamation plans for coal mining at the Black Mesa Complex for supplying coal to the Navajo Generating Station. The proposed project no longer includes the originally-proposed project components associated with supplying coal to the Mohave Generating Station, although the final EIS continues to analyze them in one of the EIS alternatives.

OSM is the lead Federal agency preparing the EIS. The BLM, EPA, Navajo Nation, Hopi Tribe, Hualapai Tribe, County of Mohave, Arizona, and City of Kingman, Arizona are cooperating agencies.

The preferred alternative in the final EIS is for OSM to approve the permit application submitted by Peabody under the Surface Mining Control and Reclamation Act and for BLM to approve the mining plan submitted by Peabody under Secretarial Order No. 3087, Amendment No. 1 (February 7, 1983), and the Tribal Lands Leasing Act (25 U.S.C. 396a).

The final EIS analyzes the potential direct, indirect, and cumulative impacts of approval of the proposed project and alternative actions on the physical, biological, and human environments. The final EIS is not a decision document. OSM will use it to make an informed decision on the permit application. In accordance with the Council on Environmental Quality's regulation at 40 CFR 1506.10(b)(2), the BLM and OSM records of decision can be made no sooner than 30 days after EPA's weekly Federal Register notice announcing that the Black Mesa Project EIS has been filed with it. OSM is timing this notice to coincide with the date of publication of the EPA notice.

You may view and download a copy of the final EIS on the OSM Internet Web site at http://www.wrcc.osmre.gov/WR/BlackMesaEIS.htm. Limited numbers of compact disk and paper copies of the final EIS are available by contacting the person listed in FOR FURTHER INFORMATION CONTACT.

Dated: October 22, 2008.
Allen D. Klein,
Regional Director, Western Region, OSM.

[FR Doc. E8-26382 Filed 11-6-08; 8:45 am]

BILLING CODE 4310-05-P